DEPARTMENT OF AGRICULTURE

Animal and Plant Health Inspection Service

[Docket No. APHIS-2014-0074]

Notice of Request for Revision to and Extension of Approval of an Information Collection; Interstate Movement of Sheep and Goats and Recordkeeping for Approved Livestock Facilities and Slaughtering and Rendering Establishments

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with regulations for the interstate movement of sheep and goats and recordkeeping for approved livestock facilities and slaughtering and rendering establishments.

DATES: We will consider all comments that we receive on or before March 24, 2015.

ADDRESSES: You may submit comments by either of the following methods:

• Federal eRulemaking Portal: Go to http://www.regulations.gov/#!docketDetail;D=APHIS-2014-0074.

• Postal Mail/Commercial Delivery: Send your comment to Docket No. APHIS-2014-0074, Regulatory Analysis and Development, PPD, APHIS, Station 3A-03.8, 4700 River Road Unit 118, Riverdale, MD 20737-1238.

Supporting documents and any comments we receive on this docket may be viewed at http://www.regulations.gov/#!docketDetail;D=APHIS-2014-0074 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the interstate movement of sheep and goats and recordkeeping for approved livestock facilities and slaughtering and rendering establishments, contact Dr. Gary S. Ross, Senior Staff Veterinarian, Surveillance, Cattle Health Center, VS, APHIS, 4700 River Road Unit 43, Riverdale, MD 20737; (301) 851-3535. For copies of more detailed information on the information collection, contact Ms. Kimberly Hardy, APHIS' Information Collection Coordinator, at (301) 851-2727.

SUPPLEMENTARY INFORMATION: Title: Interstate Movement of Sheep and Goats and Recordkeeping for Approved Livestock Facilities and Slaughtering and Rendering Establishments.

OMB Control Number: 0579-0258.

Type of Request: Revision to and extension of approval of an information collection.

Abstract: Under the Animal Health Protection Act (7 U.S.C. 8301 et seq.), the U.S. Department of Agriculture's (USDA's) Animal and Plant Health Inspection Service (APHIS) is authorized, among other things, to prohibit or restrict the interstate movement of animals and animal products to prevent the dissemination within the United States of animal diseases and pests of livestock and to conduct programs to detect, control, and eradicate pests and diseases of livestock. In support of this mission, APHIS' Veterinary Services (VS) prohibits or restricts the interstate movement of livestock that have, or have been exposed to, certain diseases.

APHIS regulations in 9 CFR part 71 restrict the interstate movement of livestock, including sheep and goats, to control the spread of disease and include provisions for livestock facilities that handle livestock moving in interstate commerce to be approved by APHIS. These requirements are intended to ensure that such facilities are constructed and operated in a manner that will help prevent the spread of disease and involve information collection activities, including an Approval of Livestock Facilities Agreement and recordkeeping.

The regulations in § 71.20 contain provisions under which livestock facilities ¹ may acquire and retain status as an approved facility. To obtain approval, facilities must enter into an agreement with APHIS in which they agree to follow certain procedures when handling livestock entering the facility. Part of this agreement states that documents such as weight tickets, sales slips, and records of origin, identification, and destination that relate to livestock that are in, or that have been in, the facility shall be maintained by the facility for a period of 5 years (2 years if the records regard only swine or poultry). Such records would be critical in the event that APHIS or State animal health officials needed to conduct a disease traceback investigation.

¹ On January 2, 2015, APHIS published a proposed rule in the Federal Register (80 FR 6-13, Docket No. APHIS-2014-0018) that proposes to amend the regulations governing approval of facilities that receive livestock moved in interstate commerce. In that document, we propose to add and define the term approved livestock marketing facility in the regulations. If the proposed rule is finalized, we will revise this collection at the next request for extension of approval of this information collection.

Section 71.20 also requires, among other things, authorized personnel at approved livestock facilities to sign an agreement that they will meet the requirements listed in that section, such as ensuring the facilities contain well-constructed and well-lighted livestock handling chutes, pens, alleys, and sales rings and allowing APHIS or its representatives to inspect, officially identify, vaccinate, take blood and tissue specimens for testing purposes.

Section 71.21 of the regulations requires, among other things, authorized personnel at listed slaughtering and rendering facilities to sign an agreement that they will meet the requirements listed in that section, such as providing office and sample collection space and allowing APHIS or its representatives to take blood and tissue specimens from livestock, record the identification of animals, retain any external or internal identification devices, and conduct records inspections. The listing agreement is the VS Listing Agreement for a Slaughter Establishment Handling Livestock or Livestock Carcasses (Non-Poultry) in Interstate Commerce Pursuant to Title 9, Code of Federal Regulations (VS Form 10-6).

This notice includes a description of the information collection requirements currently approved by the Office of Management and Budget (OMB) for recordkeeping for approved livestock facilities and slaughtering and rendering establishments under number 0579-0342, and for the interstate movement of sheep and goats under number 0579-0258. These collections pertain to the same regulations (§§ 71.20 and 71.21); therefore, we will consolidate them into one collection. After OMB approves and combines the burden for both collections under one collection (number 0579-0258), the Department will retire number 0579-0342.

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.5 hours per response.

Respondents: Livestock marketing facility personnel, owners or operators of livestock facilities that handle animals moving interstate, authorized personnel at listed slaughter and rendering facilities, and State animal health officials.

Estimated annual number of respondents: 234.

Estimated annual number of responses per respondent: 5.

Estimated annual number of responses: 1,026.

Estimated total annual burden on respondents: 546 hours. (Due to averaging, the total annual burden hours may not equal the product of the annual number of responses multiplied by the reporting burden per response.)

All responses to this notice will be summarized and included in the request for OMB approval. All comments will also become a matter of public record.

Done in Washington, DC, this 16th day of January 2015.
Kevin Shea,
Administrator, Animal and Plant Health Inspection Service.

[FR Doc. 2015-01054 Filed 1-22-15; 8:45 am]

BILLING CODE 3410-34-P